DEPARTMENT OF THE INTERIOR

Bureau of Land Management

[LLCOF02000 L71220000.EA0000 LVTFC09C6050]

Notice of Availability of the Final Environmental Impact Statement for the Proposed Over the River Art Project, Colorado

AGENCY: Bureau of Land Management, Interior.

ACTION: Notice of Availability.

SUMMARY: In accordance with the National Environmental Policy Act of 1969, as amended, and the Federal Land Policy and Management Act of 1976, as amended, the Bureau of Land Management (BLM) has prepared a Final Environmental Impact Statement (EIS) for the Proposed Over the River Art Project (Over the River Final EIS) and by this notice is announcing its availability and the initiation of the 30-day availability period.

DATES: The publication of the BLM's Notice of Availability of this Final EIS in the Federal Register initiates a 30-day public availability period. The Final EIS will be available to the public until August 29, 2011. While the availability period is not a formal public comment period, BLM may receive comments on the Final EIS which may be addressed in the Record of Decision.

ADDRESSES: Copies of the Over the River Final EIS are available for public inspection at the BLM Royal Gorge Field Office. See the SUPPLEMENTARY INFORMATION section for additional public inspection addresses. Interested persons may also review the Final EIS at the following Web site: http://www.blm.gov/co/st/en/fo/rgfo/planning/otr.html.

Any written comments related to the Over the River Final EIS may be submitted by any of the following methods:

• Web site comment form: http://www.blm.gov/co/st/en/fo/rgfo/planning/otr.html.

• E-mail: co_otr_comments@blm.gov.

• Fax: (719) 269-8599.

• Mail: BLM Royal Gorge Field Office, Over the River Comments, 3028 E. Main St., Cañon City, Colorado 81212.

Please write “OTR Comments” in the subject line of comments that are e-mailed or faxed.

FOR FURTHER INFORMATION CONTACT: Mr. Vincent Hooper, Over the River Project Manager, at the Royal Gorge Field Office (see ADDRESSES section above); telephone (719) 269-8555; e-mail co_otr_comments@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The OTR Corporation, formed by the artists Christo and Jeanne-Claude, proposes to install a work of art, known as Over the River, on Federal, state, and private lands adjacent to the Arkansas River between the cities of Salida and Cañon City in Colorado. Following an estimated 2-year construction period, the exhibit is proposed for a 2-week display and viewing period in early August 2014. The proposed art exhibit involves the installation of approximately 900 porous, semi-transparent fabric panels, which would be suspended 8 to 25 feet above the water for a total distance of approximately 5.9 miles at eight locations. The panels would be supported by approximately 1,270 steel cables and a series of steel anchor transition frames. More than 9,000 steel anchors would be drilled along and into the banks of the Arkansas River to support the panels. At the end of the 2-week exhibition period, the system of cables and anchors and other above-ground materials would be removed over an estimated 3-month period. The artists would be responsible for restoring the river corridor according to the standards defined by permitting and approval authorities. More than 300,000 people are expected to visit the Arkansas River canyon during the 2-week exhibition period. The proposed art exhibit is a no-fee visitor event. As proposed, the project would be located primarily on Federal lands administered by the BLM Royal Gorge Field Office, but would also be located on lands owned or managed by the Colorado State Land Board (SLB), Union Pacific Railroad, and private landowners; lands leased by the Colorado Division of Wildlife (CDOW); and lands owned or cooperatively managed by Colorado State Parks in the Arkansas Headwaters Recreation Area. The Colorado Department of Transportation (CDOT) and Colorado State Patrol have jurisdiction for activities along U.S. Highway 50. The majority of the project area is within Fremont County; however, a small portion at the western end of the project is within Chaffee County. Approximately 80 percent of the area in the proposed project would be located in the Arkansas Canyonlands Area of Critical Environmental Concern (ACEC), a BLM-designated area that recognizes the need for recreation use as well as protection for the river corridor's scenic values.

The Final EIS identifies 7 alternatives (including a no action alternative) that vary by panel length, transportation, visitor management, and timing considerations. The action alternatives were also developed to consider and compare configurations of public lands that could be made available for artistic panel placement as well as construction and logistics.

The BLM Royal Gorge Field Office is the lead Federal agency responsible for preparing the EIS and complying with the requirements of NEPA and other applicable laws and regulations. Multiple cooperating agencies and permitting authorities have participated and provided input in the development of the Over the River Final EIS, including CDOT, Chaffee and Fremont Counties, and the Colorado Department of Natural Resources (DNR), which includes CDOW, Colorado State Parks, and SLB.

Over the River was informally proposed by the artists Christo and Jeanne-Claude in 1996. Based on OTR Corporation's verbal proposal, the BLM began an Environmental Assessment (EA) and initiated an informal scoping period through 8 public meetings held in communities within the proposed project area from April 1997 to October 2000. OTR Corp. re-approached the BLM about the proposed project in August 2005. Additional EA-level scoping occurred in January and February 2006. On May 24, 2006, the BLM also hosted interagency meetings with CDOT, DNR, Fremont County, Chaffee County, and Colorado State Patrol to discuss and understand the public comments and questions. The scoping comments led to a Notice of Intent which published in the Federal Register on June 19, 2006 (71 FR 35289), announcing the intent to prepare an EIS. The decision to prepare an EIS was based on several factors, including a specific request from the applicants, the increasing complexity of the project, the level of controversy related to the project, and the level of public involvement during the scoping process.

On July 16, 2010, the Notice of Availability for the Draft EIS was published in the Federal Register (75 FR 41517) and a 45-day Draft EIS public comment period began. During this time, the BLM hosted 4 public meetings in Cañon City, Cotopaxi, Salida, and Denver, Colorado. Based on public comments received, the BLM extended the comment period by 15 days, ending on September 14, 2010. The responses to comments are presented in the Over the River Final EIS.

Public comments focused on concerns with emergency response and safety, cleanup and restoration, impacts to the special values of the Arkansas Canyonlands ACEC, wildlife, threatened and endangered species, recreation, transportation, and socioeconomics. These comments have been addressed within the range of alternatives in the Final EIS where applicable.

Additional Final EIS Inspection Addresses: Additional copies of the Over the River Final EIS are available at the BLM Colorado State Office, 2850 Youngfield Street, Lakewood, Colorado; Cañon City Public Library, 516 Macon Ave., Cañon City, Colorado; Salida Regional Library, 405 E. Street, Salida, Colorado; Arkansas Headwaters Recreation Area office, 307 West Sackett Ave., Salida, Colorado; Denver Public Library, 10 W. Fourteenth Ave. Parkway, Denver, Colorado; and the Cotopaxi Store, 20204 U.S. Highway 50, Cotopaxi, Colorado.

Before including your address, phone number, e-mail address, or other personal identifying information in your comment on the Final EIS, you should be aware that your entire comment—including your personal identifying information—may be made publicly available at any time. While you can ask us in your comment to withhold your personal identifying information from public review, we cannot guarantee that we will be able to do so.

Authority: 40 CFR 1506.6 and 1506.10.

Helen M. Hankins,
Colorado State Director.

[FR Doc. 2011-19092 Filed 7-28-11; 8:45 am]

BILLING CODE 4310-JB-P